DEPARTMENT OF THE INTERIOR

National Park Service

Grand Teton Transportation Plan, Final Environmental Impact Statement, Grand Teton National Park, WY

AGENCY: National Park Service, Department of the Interior.

ACTION: Notice of availability of a Record of Decision on the Final Environmental Impact Statement for the Grand Teton Transportation Plan, Grand Teton National Park.

SUMMARY: Pursuant to § 102(2)(C) of the National Environmental Policy Act of 1969, 83 Stat. 852, 853, codified as amended at 42 U.S.C. 4332(2)(C), the National Park Service announces the availability of the Record of Decision for the Grand Teton Transportation Plan, Grand Teton National Park, WY. On March 12, 2007, the Director, Intermountain Region approved the Record of Decision for the project. As soon as practicable, the National Park Service will begin to implement the Preferred Alternative contained in the FEIS issued on September 15, 2006. The following course of action will occur under the preferred alternative: construction of approximately 23 miles of separated multi-use pathways between the south park boundary and String Lake via North Jenny Lake Junction; approximately 16 miles of pathways within the road corridor between North Jenny Lake Junction and Colter Bay; an approximately 3-mile pathway within the road corridor along the Moose-Wilson Road from the Granite Canyon Entrance to the Laurance S. Rockefeller (LSR) Preserve; and realignment of the Moose-Wilson Road in two areas, with the existing alignments being restored to natural conditions. This course of action was analyzed in the Final Environmental Impact Statement and combines two alternatives presented in the Draft Environmental Impact Statement. Four other alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding on impairment of park resources and values, a listing of measures to minimize environmental harm, and an overview of public involvement in the decision-making process.

FOR FURTHER INFORMATION CONTACT: Mary Gibson Scott, Superintendent, Grand Teton National Park, P.O. Drawer 170, Moose, Wyoming 83012-0170, (307) 739-3410.

SUPPLEMENTARY INFORMATION: Copies of the Record of Decision may be obtained from the contact listed above or online at http://parkplanning.nps.gov/grte.

Dated: March 12, 2007.
Anthony J. Schetzsle,
Deputy Director, Intermountain Region, National Park Service.

[FR Doc. E7-7739 Filed 4-23-07; 8:45 am]

BILLING CODE 4312-CX-P